DEPARTMENT OF TRANSPORTATION

Office of the Secretary

Aviation Proceedings, Agreements Filed the Week Ending April 15, 2005

The following Agreements were filed with the Department of Transportation under the provisions of 49 U.S.C. 412 and 414. Answers may be filed within 21 days after the filing of the application.

Docket Number: OST-2005-20964.

Date Filed: April 12, 2005.

Parties: Members of the International Air Transport Association.

Subject: PTC2 EUR-AFR 0221 dated 8 March 2005, PTC2 Europe-Africa Resolutions r1-r19, PTC2 EUR-AFR 0222 dated 18 March 2005, Technical Correction to Resolution 074q, PTC2 EUR-AFR 0224 dated 8 April 2005, Technical Correction to Resolution 002, Minutes: PTC2 EUR-AFR 0225 dated 12 April 2005, Tables: PTC2 EUR-AFR Fares 0130 dated 11 March 2005, Intended effective date: 1 May 2005.

Maria Gulczewski,
Acting Program Manager, Docket Operations, Alternate Federal Register Liaison.

[FR Doc. 05-8451 Filed 4-26-05; 8:45 am]

BILLING CODE 4910-62-P